DEPARTMENT OF AGRICULTURE

Forest Service

Tongass Advisory Committee

AGENCY: Forest Service, USDA.

ACTION: Notice of meeting.

SUMMARY: The Tongass Advisory Committee (Committee) will meet in Sitka, Alaska. The Committee is established consistent with the Federal Advisory Committee Act of 1972 (5 U.S.C. App. 2). The most up-to-date information concerning the Committee, including meeting times and agendas can be found by visiting the Committee's Web site at: http://www.fs.usda.gov/goto/R10/Tongass/TAC. The meeting is open to the public.

DATES: The meeting will be held on:

• November 19, 2014 from 8:30 a.m. to 4:30 p.m. (AKDT).

• November 20, 2014 from 8:30 a.m. to 5:00 p.m. (AKDT).

• November 21, 2014 from 8:30 a.m. to 4:00 p.m. (AKDT).

All meetings are subject to change and cancellation. For status of the meetings prior to attendance, please visit the Web site listed in the SUMMARY section, or contact the person listed under FOR FURTHER INFORMATION CONTACT.

ADDRESSES: The meeting will be held at the Sheet'ka Kwaán Naa Kahídi, The Community House, 200 Katlian Street, Sitka, Alaska 99835. For more information on the meeting or to attend please visit the Web site listed in the Summary section, or contact Nicole McMurren at nmcmurren@fs.fed.us for further details. Written comments may be submitted as described under SUPPLEMENTARY INFORMATION. All comments, including names and addresses when provided, are placed in the record and available for public inspection and copying. The public may inspect comments received at the Tongass National Forest Office. Please call ahead to facilitate entry into the building.

FOR FURTHER INFORMATION CONTACT: Nicole McMurren, Committee Coordinator, by phone at 907-772-5875, or by email at nmcmurren@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to provide advice and recommendations on ecologically, socially, and economically sustainable forest management strategy on the Tongass National Forest with an emphasis on young growth management. Recommendations and advice may directly inform the development of a proposed action for modification of the 2008 Tongass Land Management Plan.

Agenda: On November 19-21, the Committee is scheduled to begin development and evaluation of recommendation options and establish expectations for subcommittee work in December. In addition, there will be time allotted for oral public comment. Those interested in providing comment orally can register at the meeting. Anyone who would like to bring related matters to the attention of the Committee may file written statements with the Committee's staff before or after the meeting. Written comments should be sent to Jason Anderson, Designated Federal Officer, Tongass National Forest, P.O. Box 309, Petersburg, Alaska 99833; by email to jasonanderson@fs.fed.us, or via facsimile to 907-772-5895. Summary/minutes of the meeting will be posted on the Web site listed above within 45 days after the meeting.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: October 21, 2014.
Jason Anderson,
Deputy Forest Supervisor, Tongass National Forest.

[FR Doc. 2014-25640 Filed 10-28-14; 8:45 am]

BILLING CODE 3411-15-P